DEPARTMENT OF COMMERCE

National Oceanic and Atmospheric Administration

Management Plan for National Estuarine Research Reserve Program

AGENCY: Office for Coastal Management (OCM), National Ocean Service (NOS), National Oceanic and Atmospheric Administration (NOAA), Department of Commerce (DOC).

ACTION: Notice of public comment period for the Wells National Estuarine Research Reserve management plan revision.

SUMMARY: Notice is hereby given that the Stewardship Division, Office for Coastal Management, National Ocean Service, National Oceanic and Atmospheric Administration, U.S. Department of Commerce is announcing a thirty (30) day public comment period for the revised management plan for Wells National Estuarine Research Reserve management plan revision.

ADDRESSES: You may submit comments on the draft management plan by any of the following methods:

Written Comments: Please submit written comments to Paul Dest, Reserve Manager, Wells Reserve, 342 Laudholm Farms Road, Wells, Maine 04090, or email comments to dest@wellsnerr.org. Comments that the Office for Coastal Management receives are considered part of the public record and may be publicly accessible. Any personal identifying information (e.g., name, address) submitted voluntarily by the sender may also be publicly accessible. NOAA will accept anonymous comments.

FOR FURTHER INFORMATION CONTACT: Adrianne Harrison at (603) 862-4272 or Erica Seiden at (240) 533-0781 of NOAA's National Ocean Service, Stewardship Division, Office for Coastal Management, 1305 East-West Highway, N/ORM5, 10th floor, Silver Spring, MD 20910.

SUPPLEMENTARY INFORMATION: Pursuant to 15 CFR 921.33(c), a state must update their management plan. The Wells Reserve revised plan will replace the plan previously approved in 2013.

The revised management plan outlines a strategic plan; administrative structure; research and monitoring, education, stewardship, wetland science and training programs of the reserve; resource protection and manipulation plans, restoration management plan; public access and visitor use plan; considerations for future land acquisition; and facility development to support reserve operations.

The Wells Reserve takes an integrated approach to management, linking research, education, coastal training, and resource management functions. The reserve has outlined how it will manage administration and its core programs, providing detailed actions that will enable it to accomplish specific goals and objectives. Since the last management plan, the reserve has implemented its core and system-wide programs; secured science, education, and conservation grants to serve southern Maine communities; made significant repairs and improvements to buildings including installed solar arrays to generate electricity and renovated the water tower; designed and installed climate change exhibit components in Visitor Center; added a fully accessible trail at Wells Harbor; restored riverine and fisheries habitats in southern Maine watersheds; and helped partners acquire priority conservation lands.

There will be no boundary change with the approval of the revised management plan. The management plan will serve as the guiding document for the 2,250-acre Wells Reserve.

NOAA's Office Coastal Management will be conducting an environmental analysis in accordance with the National Environmental Policy Act on the proposed approval of the Reserve's revised management plan. The public is invited to provide comment or information about any potential environmental impacts of the proposed action, and these comments will be used to inform the decision making.

View the Wells Reserve management plan revision on their website, at https://www.wellsreserve.org/writable/files/DraftPlan19.pdf, and provide comments to Paul Dest, dest@wellsnerr.org.

Dated: June 10, 2019.
Keelin Kuipers,
Deputy Director, Office for Coastal Management, National Ocean Service, National Oceanic and Atmospheric Administration.

Federal Domestic Assistance Catalog 11.420

Coastal Zone Management Program Administration

[FR Doc. 2019-13956 Filed 6-28-19; 8:45 am]

BILLING CODE 3510-22-P